NATIONAL SCIENCE FOUNDATION

Final Environmental Impact Statement (FEIS) for the Green Bank Observatory, Green Bank, West Virginia

AGENCY: National Science Foundation.

ACTION: Notice of Availability.

SUMMARY: The National Science Foundation (NSF) announces the availability of the Final Environmental Impact Statement (FEIS) for Green Bank Observatory, Green Bank, WV. This Final EIS identifies and analyzes the potential environmental consequences of the following alternatives: Alternative A, Collaboration with interested parties for continued science- and education-focused operations with reduced NSF funding (Agency-preferred Alternative); Alternative B, Collaboration with interested parties for operation as a technology and education park; Alternative C, Mothballing of Facilities; Alternative D, Demolition and Site Restoration; and the No Action Alternative, Continued NSF Investment for Science‐focused Operations. It also proposes mitigation measures to minimize the adverse impacts from alternatives that include demolition where such impacts may occur.

DATES: The National Science Foundation will execute a Record of Decision no sooner than 30 days after the date of publication of the Notice of Availability published in the Federal Register by the Environmental Protection Agency.

ADDRESSES: The Final EIS is made available for public inspection on-line at www.nsf.gov/AST. A copy of the FEIS will be available for review at the following libraries:

Green Bank Public Library, 5683 Potomac Highlands Trail, Green Bank, WV 24944

Durbin Community Library, 4361 Staunton Parkersburg Turnpike, Durbin, WV 26264

FOR FURTHER INFORMATION CONTACT: Ms. Elizabeth Pentecost, Re: Green Bank Observatory, 2415 Eisenhower Avenue, Room W9152, Alexandria, VA 22314, envcomp-AST-greenbank@nsf.gov; 703-292-4907.

SUPPLEMENTARY INFORMATION: Green Bank Observatory (GBO) is located in Pocahontas County, West Virginia, adjacent to the Monongahela National Forest. NSF owns the GBO land, which consists of numerous parcels acquired by the U.S. Army Corps of Engineers in the 1950s, when GBO was formed as the first (and then, only) site of the National Radio Astronomy Observatory (NRAO). The GBO facilities include the Robert C. Byrd Green Bank Telescope, the largest fully steerable radio telescope in the world; the 43-meter Telescope; the Green Bank Solar Radio Burst Spectrometer; the 20-meter Geodetic Telescope; the 40-foot Telescope; the Interferometer Range; and previously operational telescopes.

Through a series of academic community-based and portfolio reviews, NSF identified the need to divest several facilities from its portfolio in order to retain the balance of capabilities needed to deliver the best performance on the key science of the present decade and beyond. In 2016, NSF completed a feasibility study to inform and define options for the site's future disposition that would involve significantly decreasing or eliminating NSF funding of the Green Bank Observatory. NSF issued a Notice of Intent to prepare an EIS on October 19, 2016, held scoping meetings on November 9, 2016, and held a 30-day public comment period that closed on November 25, 2016.

The Draft EIS was made available for public review and comment from November 8, 2017 through January 8, 2018. The full Draft EIS was also posted on the NSF, Division of Astronomical Sciences website (www.nsf.gov/AST) and hard copies were delivered to local libraries. A public meeting on the draft EIS was held in Green Bank, WV on November 30, 2017. During the review period, the NSF received over 340 comments. After considering all comments received, the NSF prepared the Final EIS. There are no substantive changes to the range of alternatives considered. Alternative A, Collaboration with interested parties for continued science- and education-focused operations with reduced NSF funding, is identified as the “Agency-preferred Alternative.”

Dated: February 15, 2019.
Suzanne H. Plimpton,
Reports Clearance Officer, National Science Foundation.

[FR Doc. 2019-03017 Filed 2-21-19; 8:45 am]

BILLING CODE 7555-01-P